DEPARTMENT OF COMMERCE

National Oceanic and Atmospheric Administration

50 CFR Part 679

Fisheries of the Exclusive Economic Zone Off Alaska

CFR Correction

In title 50 of the Code of Federal Regulations, Part 660 to end, revised as of October 1, 2020, on page 637, in section 679.7, paragraph (a)(13)(ii)(A) is reinstated to read as follows:

§ 679.7 Closures

(a) * * *

(13) * * *

(ii) * * *

(A) Cutting the gangion.

* * * * *

[FR Doc. 2021-21059 Filed 9-24-21; 8:45 am]

BILLING CODE 0099-10-P